DEPARTMENT OF HEALTH AND HUMAN SERVICES

National Institutes of Health

Center for Scientific Review; Amended Notice of Meeting

Notice is hereby given of a change in the meeting of the Center for Scientific Review Special Emphasis Panel, June 15, 2020, 10:00 a.m. to June 15, 2020, 06:00 p.m., National Institutes of Health, Rockledge II, 6701 Rockledge Drive, Bethesda, MD, 20892 which was published in the Federal Register on May 12, 2020, 85 FR 28020.

This notice is being amended to change the meeting format from Virtual Meeting to Video Assisted Meeting. The meeting is closed to the public.

Dated: May 28, 2020.
Miguelina Perez,
Program Analyst, Office of Federal Advisory Committee Policy.

[FR Doc. 2020-11878 Filed 6-1-20; 8:45 am]

BILLING CODE 4140-01-P